FEDERAL ACCOUNTING STANDARDS ADVISORY BOARD

Notice of Appointment of Board Member to the Federal Accounting Standards Advisory Board

AGENCY: Federal Accounting Standards Advisory Board.

ACTION: Notice.

SUMMARY: Notice is hereby given that David Vaudt has been appointed to the Federal Accounting Standards Advisory Board (FASAB or “the Board”). Mr. Vaudt's five-year term will begin on January 27, 2025.

ADDRESSES: The news release is available on the FASAB website at https://www.fasab.gov/news-releases/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: December 20, 2024.
Monica R. Valentine,
Executive Director.

[FR Doc. 2024-31253 Filed 12-27-24; 8:45 am]

BILLING CODE 1610-02-P